U.S.-CHINA ECONOMIC AND SECURITY REVIEW COMMISSION

Notice of Open Public Meeting

AGENCY: U.S.-China Economic and Security Review Commission.

ACTION: Notice of Official Public Release of the Commission's 2013 Annual Report to Congress on November 20, 2013.

SUMMARY: Notice is hereby given of meetings of the U.S.-China Economic and Security Review Commission.

Name: William A. Reinsch, Chairman of the U.S.-China Economic and Security Review Commission.

The Commission is mandated by Congress to investigate, assess, evaluate and report to Congress annually on the U.S.-China economic and security relationship. The mandate specifically charges the Commission to prepare a report to Congress “regarding the national security implications and impact of the bilateral trade and economic relationship between the United States and the People's Republic of China [that] shall include a full analysis, along with conclusions and recommendations for legislative and administrative actions . . .”

Purpose of Meetings

Pursuant to this mandate, the Commission will hold an official public conference in Washington, DC to release the 2013 Annual Report on November 20, 2013.

The Commission is subject to the Federal Advisory Committee Act (FACA) with the enactment of the Science, State, Justice, Commerce and Related Agencies Appropriations Act, 2006 that was signed into law on November 22, 2005 (Public Law 109-108). In accord with FACA, meetings of the Commission to make decisions concerning the substance and recommendations of its 2013 Annual Report to Congress are open to the public.

Topics To Be Discussed

The Commission's 2013 Annual Report contains the following chapters and sections:

• Executive Summary

○ Key Recommendations for Congress

• Introduction

• Chapter 1: The U.S.-China Trade and Economic Relationship

○ Section 1: Trade and Economics Year in Review

○ Section 2: Trends in Chinese Investment in the United States

○ Section 3: Governance and Accountability in China's Financial System

○ Section 4: China's Agriculture Policy, Food Regulation, and the U.S.-China Agriculture Trade

○ Recommendations

• Chapter 2: China's Impact on U.S. Security Interests

○ Section 1: Military and Security Year in Review

○ Section 2: China's Cyber Activities

○ Section 3: China's Maritime Dispute

○ Recommendations

• Chapter 3: China in Asia

○ Section 1: China and the Middle East and North Africa

○ Section 2: Taiwan

○ Section 3: Macau and Hong Kong

○ Recommendations

Dates, Times, and Room Locations (Eastern Daylight Time)

• Wednesday, November 20, 2013 (9:00 a.m.)—Rayburn House Office Building, Room 2212

ADDRESSES: The Commission's official public conference to release the 2013 Annual Report will be held in the Rayburn House Office Building, Room 2212.

Public seating is limited and will be available on a “first-come, first-served” basis. Advanced reservations are not required. All participants must register at the event table.

FOR FURTHER INFORMATION CONTACT: Reed Eckhold, Congressional Liaison and Director of Communications, U.S.-China Economic and Security Review Commission, 444 North Capitol Street NW., Suite 602, Washington, DC 20001; Phone: (202) 624-1496; Email: reckhold@uscc.gov.

Authority: Congress created the U.S.-China Economic and Security Review Commission in 2000 in the National Defense Authorization Act (Pub. L. 106-398), as amended by Division P of the Consolidated Appropriations Resolution, 2003 (Pub. L. 108-7), as amended by Pub. L. 109-108 (November 22, 2005).

Dated: November 7, 2013.
Michael Danis,
Executive Director, U.S.-China Economic and Security Review Commission.

[FR Doc. 2013-27189 Filed 11-13-13; 8:45 am]

BILLING CODE 1137-00-P